CONSUMER PRODUCT SAFETY COMMISSION

[Docket No. CPSC-2012-0057]

Agency Information Collection Activities; Proposed Collection; Comment Request; Requirements for Electrically Operated Toys and Children's Articles

AGENCY: Consumer Product Safety Commission.

ACTION: Notice.

SUMMARY: As required by the Paperwork Reduction Act of 1995 (44 U.S.C. Chapter 35), the Consumer Product Safety Commission (“CPSC” or “Commission”) requests comments on a proposed extension of approval of a collection of information required in the Requirements for Electrically Operated Toys or Other Electrically Operated Articles Intended for Use by Children (16 CFR part 1505), approved previously under OMB Control No. 3041-0035. The Commission will consider all comments received in response to this notice before requesting an extension of this collection of information from the Office of Management and Budget (“OMB”).

DATES: Submit written or electronic comments on the collection of information by January 25, 2016.

ADDRESSES: You may submit comments, identified by Docket No. CPSC-2012-0057, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0057, into the “Search” box, and follow the prompts.

FOR FURTHER INFORMATION CONTACT: Robert H. Squibb, Consumer Product Safety Commission, 4330 East West Highway, Bethesda, MD 20814; (301) 504-7815, or by email to: rsquibb@cpsc.gov.

SUPPLEMENTARY INFORMATION: CPSC seeks to renew the following currently approved collection of information:

Title: Requirements for Electrically Operated Toys.

OMB Number: 3041-0035.

Type of Review: Renewal of collection.

Frequency of Response: On occasion.

Affected Public: Manufacturers and importers of electrically operated toys and other electrically operated articles.

Estimated Number of Respondents: 40 firms that manufacture or import electrically operated toys and other electrically operated articles have been identified; based on manufacturer and importer records for sales and distribution of inventory, there are approximately 10 models each year per firm for which testing and recordkeeping is required resulting in 400 records (40 firms x 10 models) per year.

Estimated Time per Response: Based on discussion with a trade association for the toy industry, we estimate that the tests required by the regulations can be performed on one model in 16 hours and that four hours of recordkeeping is required per model. In addition, each firm may spend 30 minutes or less per model on labeling requirements.

Total Estimated Annual Burden: 6400 hours for testing burden (16 hours x 400 records); 1600 hours for recordkeeping (4 hours x 400 records); 200 hours for labeling (40 firms x ½ hour x 10 models) for a total annual burden of 8200 hours per year.

General Description of Collection: The regulations in 16 CFR part 1505 establish performance and labeling requirements for electrically operated toys and children's articles to reduce unreasonable risks of injury to children from electric shock, electrical burns, and thermal burns associated with those products. Manufacturers and importers of electrically operated toys and children's articles are required to maintain records for three years on: (1) Material and production specifications; (2) the quality assurance program used; (3) results of all tests and inspections conducted; and (4) sales and distribution of electrically operated toys and children's articles.

Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: November 20, 2015.
Todd A. Stevenson,
Secretary, Consumer Product Safety Commission.

[FR Doc. 2015-29977 Filed 11-24-15; 8:45 am]

BILLING CODE 6355-01-P